DEPARTMENT OF COMMERCE

Minority Business Development Agency

[Docket No. 040909257-4257-01 ]

Solicitation of Applications for the Minority Business Development Center (MBDC) Program

AGENCY: Minority Business Development Agency, Commerce.

ACTION: Notice.

SUMMARY: The Minority Business Development Agency publishes this notice to announce an extension of the closing date for a competitive application for the Miami/Ft. Lauderdale Minority Business Development Center (MBDC) Program due to the disaster recovery efforts throughout the state of Florida caused by Hurricane Frances. The closing date September 21, 2004 as originally published in the Federal Register Notice (69 FR 51064) on August 17, 2004 has been changed to October 8, 2004. No other changes to the program requirements have been made. Please see the original notice for program information and application requirements.

DATES: The new closing date for submittals pertaining to MBDC Application Award Number 04-10-05001-01 is October 8, 2004. Completed applications for the Miami/Ft. Lauderdale MBDC must be received by MBDA no later than 5 p.m. Eastern Daylight Savings Time at the address below. Applications received after the closing date and time will not be considered.

Anticipated time for processing of applications is one hundred twenty (120) days from the date of publication of this notice.

MBDA anticipates that awards for the MBDC program will be made with an anticipated start date of January 1, 2005.

ADDRESSES: If the application is mailed by the applicant or its representative, they must submit one (1) signed original plus two (2) copies of the application. Completed application packages must be mailed to: Office of Business Development, Office of Executive Secretariat, HCHB, Room 5063, Minority Business Development Agency, U.S. Department of Commerce, 14th Street and Constitution Avenue, NW., Washington, DC 20230.

If the application is hand-delivered by the applicant or his/her representative, one (1) signed original plus two (2) copies of the application must be delivered to: U.S. Department of Commerce, HCHB, Room 1874, Entrance #10, 15th Street, NW., Washington, DC, located between Pennsylvania and Constitution Avenues.

If applying on-line at http://www.mbda.gov, all sections of the application (Program Narrative, SF-424, SF-424A, SF-424B, SF-LLL, CD-346, and CD-511) must be completed in order for the application to be considered. In addition to applying on-line, you must also hand-deliver or mail one original plus two (2) copies of only the pages that require original signatures by the closing date and time stated above.

FOR FURTHER INFORMATION CONTACT: For a copy of the Federal Funding Opportunity Announcement as well as further information (including Frequently Asked Questions/Answers, Pre-Application teleconference, etc.), please visit MBDA's Minority Business Internet Portal (MBDA Portal) at http://www.mbda.gov or contact the appropriate regional office listed below. A printed application package can also be obtained by contacting the specified MBDA National Enterprise Center (NEC) for the geographic service area in which the project will be located (see Geographic Service Area in this notice).

Regional Agency Contacts:

1. MBDC Application: Miami/Ft. Lauderdale. Robert Henderson, Regional Director, Atlanta National Enterprise Center, Minority Business Development Agency, U.S. Department of Commerce, 401 W. Peachtree Street, NW., Suite 1715, Atlanta, GA 30308-3516, 404-730-3300.

SUPPLEMENTARY INFORMATION:

Electronic Access

The full text Federal Funding Opportunity Announcement for the MBDC program is available via Web site at http://www.mbda.gov or by contacting the MBDA representative identified above. An abbreviated announcement is also available through Grants.gov at http://www.Grants.gov.

Applicants for the Miami/Ft. Lauderdale MBDC are encouraged to submit their proposal electronically via the Internet and mail or hand-deliver only the pages that require original signatures by the closing date and time, as stated in this Notice. Applicants may submit their applications on the MBDA Portal located at http://www.mbda.gov. All required forms are located at this Web address. However, the following paper forms must be submitted with original signatures in conjunction with any electronic submissions by the closing date and time stated in this Notice: (1) SF-424, Application for Federal Assistance; (2) SF-424B, Assurances—Non-Construction Programs; (3) SF-LLL (Rev.7-97) (if applicable), Disclosure of Lobbying Activities; (4) Department of Commerce Form CD-346 (if applicable), Application for Funding Assistance; and, (5) CD-511, Certifications Regarding Debarment, Suspension and Other Responsibility Matters: Drug-Free Workplace Requirements and Lobbying.

Dated: September 10, 2004.
Ronald N. Langston,
National Director, Minority Business Development Agency.

[FR Doc. 04-20846 Filed 9-15-04; 8:45 am]

BILLING CODE 3510-21-P